DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council will meet June 19, 2014, 4:00-5:00 p.m. via teleconference.

The meeting is open to the public and will include discussions and evaluation of grant applications reviewed by SAMHSA's Initial Review Groups. To attend on-site, or request special accommodations for persons with disabilities, please register at SAMHSA Committees' Web site, http://nac.samhsa.gov/Registration/meetingsRegistration.aspx, or contact the Council's Designated Federal Officer, Ms. Cynthia Graham, (see contact information below). Substantive program information, a summary of the meeting, and a roster of Council members may be obtained as soon as possible after the meeting, by accessing the SAMHSA Committee Web site at http://beta.samhsa.gov/about-us/advisory-councils/csat-national-advisory-council, or by contacting the DFO.

Committee Name: SAMHSA's Center for Substance Abuse Treatment National Advisory Council.

Date/Time/Type: June 19, 2014, 4:00-5:00 p.m. OPEN.

Place: SAMHSA Building, 1 Choke Cherry Road, Great Falls Conference Room, Rockville, Maryland 20857.

Contact: Cynthia Graham, M.S., Designated Federal Official, SAMHSA CSAT National Advisory Council, 1 Choke Cherry Road, Room 5-1035, Rockville, Maryland 20857, Telephone: (240) 276-1692, Fax: (240) 276-1690, Email: cynthia.graham@samhsa.hhs.gov.

Cathy J. Friedman,
Public Health Analyst, SAMHSA.

This notice is being published less than 15 days prior to the meeting due to the urgent need to meet timing limitations imposed by the review and funding cycle.

[FR Doc. 2014-13670 Filed 6-11-14; 8:45 am]

BILLING CODE 4162-20-P